DEPARTMENT OF TRANSPORTATION

Federal Aviation Administration

14 CFR Part 39

[Docket No. FAA-2020-0125; Product Identifier 2019-SW-104-AD; Amendment 39-21027; AD 2020-02-23]

RIN 2120-AA64

Airworthiness Directives; Airbus Helicopters

AGENCY: Federal Aviation Administration (FAA), DOT.

ACTION: Final rule; request for comments.

SUMMARY: The FAA is adopting a new airworthiness directive (AD) for certain Airbus Helicopters Model AS350B, AS350BA, AS350B1, AS350B2, AS350B3, AS350C, AS350D, A350D1, AS355E, AS355F, AS355F1, AS355F2, AS355N, and AS355NP helicopters. This AD requires repetitive inspections of the installation of the pull cables on the emergency float kits. This AD was prompted by the results of an accident investigation and subsequent reports of difficulty pulling the emergency float kit float activation handle installed on the pilot cyclic. The FAA is issuing this AD to address the unsafe condition on these products.

DATES: This AD is effective February 28, 2020.

The Director of the Federal Register approved the incorporation by reference of a certain publication listed in this AD as of February 28, 2020.

The FAA must receive comments on this AD by March 30, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Dart Aerospace LTD., 1270 Aberdeen St., Hawkesbury, ON, K6A 1K7, Canada; telephone: 1-613-632-5200; Fax: 1-613-632-5246; or at www.dartaero.com.

You may view this service information at the FAA, Office of the Regional Counsel, Southwest Region, 10101 Hillwood Pkwy, Room 6N-321, Fort Worth, TX 76177. For information on the availability of this material at the FAA, call 817-222-5110.

It is also available on the internet at https://www.regulations.gov by searching for and locating Docket No. FAA-2020-0125.

Examining the AD Docket

You may examine the AD docket on the internet at https://www.regulations.gov by searching for and locating Docket No. FAA-2020-0125; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Johann S. Magana, Aerospace Engineer, Cabin Safety and Environmental Systems Section, FAA, Los Angeles ACO Branch, 3960 Paramount Boulevard, Lakewood, CA 90712-4137; phone: 562-627-5322; fax: 562-627-5210; email: johann.magana@faa.gov.

SUPPLEMENTARY INFORMATION:

Discussion

This AD is prompted by the results of an investigation of a March 11, 2018, fatal accident in which an Airbus Helicopters Model AS350B2 helicopter impacted a body of water during an autorotation. The left-hand and right-hand emergency floats did not inflate symmetrically and the helicopter subsequently capsized.

During the accident investigation, the FAA learned of reports of difficulty pulling the emergency float kit float activation handle installed on the pilot cyclic. Asymmetric inflation of the float system and difficulty deploying the float system from the float activation handle installed on the pilot cyclic can be caused by improperly installed pull cables. These emergency float kits utilize a system of pull cables to activate and release compressed gas from the float cylinders into the floats. Proper installation of the pull cables allows the two float cylinders installed on the aircraft to activate simultaneously, allowing for proper distribution of gas to all floats in the system. Improperly installed pull cables, if not addressed, could result in loss of the left- or right-hand float, causing the helicopter to roll to one side but remain buoyant, or loss of both floats, causing the helicopter to capsize underwater.

These emergency float systems are installed on Airbus Helicopters Model AS350B, AS350BA, AS350B1, AS350B2, AS350B3, AS350C, AS350D, and AS350D1 helicopters under Supplemental Type Certificate (STC) SR00470LA, and on Model AS355E, AS355F, AS355F1, AS355F2, AS355N, and AS355NP helicopters under STC SR00645LA. Both STCs are held by Apical Industries, Inc., d/b/a DART Aerospace (DART). Following the investigation, DART developed a test tool to verify correct installation and rigging of the pull cables and subsequently issued service information to provide instructions for using the test tool. The FAA approved these instructions to correct the unsafe condition on November 13, 2019. Accordingly, the FAA is issuing this AD to address the unsafe condition on these products.

Related Service Information Under 1 CFR Part 51

The FAA has reviewed DART Aerospace Service Bulletin SB-2018-07, Revision D, dated November 25, 2019. This service information contains procedures for inspecting the installation of the pull cables on 20326-series part-numbered emergency float kits (e.g., inspecting for activation pull forces on the float activation handle), readjusting the cable rigging if improperly installed, and contacting DART if readjusting the rigging is not successful. This service information also contains optional procedures for deactivating the emergency float system as inoperative.

This service information is reasonably available because the interested parties have access to it through their normal course of business or by the means identified in the ADDRESSES section.

Other Related Service Information

The FAA has also reviewed DART Aerospace Service Bulletin SB-2018-07, Revision B, dated October 8, 2019, and DART Aerospace Service Bulletin SB-2018-07, Revision C, dated November 14, 2019. The actions specified in these service bulletins are the same as those specified in DART Aerospace Service Bulletin SB-2018-07, Revision D, dated November 25, 2019. DART Aerospace Service Bulletin SB-2018-07, Revision C, dated November 14, 2019, adds a note that includes a reference to the instructions for continued airworthiness for a specific float system configuration that was not in DART Aerospace Service Bulletin SB-2018-07, Revision B, dated October 8, 2019. DART Aerospace Service Bulletin SB-2018-07, Revision D, dated November 25, 2019, clarifies certain references to the operational instructions manual. These differences do not affect how operators would accomplish the actions necessary to address the identified unsafe condition.

FAA's Determination

The FAA is issuing this AD after evaluating all the relevant information and determining the unsafe condition described previously is likely to exist or develop in other products of the same type design.

AD Requirements

This AD requires repetitive inspections of the installation of the pull cables on the emergency float kits and corrective action if necessary.

Differences Between This AD and the Service Information

DART Aerospace Service Bulletin SB-2018-07, Revision D, dated November 25, 2019, specifies accomplishing the actions before March 31, 2020, while this AD requires compliance within 100 hours time-in-service (TIS) or 30 days after the effective date of this AD, whichever occurs first.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because improperly installed pull cables may lead to asymmetric inflation of the float system or difficulty deploying the float system from the float activation handle installed on the pilot cyclic, which could result in the loss of one or more floats. Loss of the left- or right-hand float could cause the helicopter to roll to one side but remain buoyant, while loss of both floats could cause the helicopter to capsize underwater. Because of the high utilization rate of helicopters with these emergency float kits installed, and because these helicopters primarily conduct operations over water, the FAA determined a compliance time of no more than 100 hours TIS or 30 days, whichever occurs first, was required to correct the unsafe condition. This compliance time is shorter than the time necessary for the public to comment and for publication of the final rule. Therefore, notice and opportunity for prior public comment are impracticable and contrary to public interest pursuant to 5 U.S.C. 553(b)(3)(B). In addition, for the reasons stated above, the FAA finds that good cause exists pursuant to 5 U.S.C. 553(d) for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2020-0125 and Product Identifier 2019-SW-104-AD at the beginning of your comments. The FAA specifically invites comments on the overall regulatory, economic, environmental, and energy aspects of this final rule. The FAA will consider all comments received by the closing date and may amend this final rule because of those comments.

The FAA will post all comments received, without change, to https://www.regulations.gov, including any personal information you provide. The FAA will also post a report summarizing each substantive verbal contact received about this final rule.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Costs of Compliance

The FAA estimates that this AD affects 71 helicopters of U.S. registry. The FAA estimates the following costs to comply with this AD:

Estimated Costs
Action | Labor cost | Parts cost | Cost per helicopter | Cost on U.S. operators
Inspection | 3 work-hours × $85 per hour = $255 per inspection | $0 | $255 | $18,105

The inspection requires the use of a pull cable test kit, which costs $2,000. Only one pull cable test kit is needed per operator such that the operator may use the same pull cable test kit on any affected helicopter. The FAA has no way of determining what on-condition actions may be required following the inspection required by this AD, the number of helicopters that might need on-condition actions, or the costs to perform the on-condition actions.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-02-23 Airbus Helicopters: Amendment 39-21027; Docket No. FAA-2020-0125; Product Identifier 2019-SW-104-AD.

(a) Effective Date

This AD is effective February 28, 2020.

(b) Affected ADs

None.

(c) Applicability

This AD applies to the helicopters identified in paragraphs (c)(1) and (2) of this AD, certificated in any category.

(1) Airbus Helicopters Model AS350B, AS350BA, AS350B1, AS350B2, AS350B3, AS350C, AS350D, and AS350D1 helicopters, modified by supplemental type certificate (STC) SR00470LA.

(2) Airbus Helicopters Model AS355E, AS355F, AS355F1, AS355F2, AS355N, and AS355NP helicopters, modified by STC SR00645LA.

(d) Subject

Air Transport Association (ATA) of America Code 25, Equipment/Furnishings, and 32, Landing gear.

(e) Unsafe Condition

This AD was prompted by reports of difficulty pulling the emergency float kit float activation handle installed on the pilot cyclic. The FAA is issuing this AD to address improperly installed pull cables, which can lead to difficulty deploying the float system from the float activation handle installed on the pilot cyclic, and could result in loss of the left- or right-hand float, causing the helicopter to roll to one side but remain buoyant, or loss of both floats causing the helicopter to capsize underwater.

(f) Compliance

Comply with this AD within the compliance times specified, unless already done.

(g) Required Actions

Within 100 hours time-in-service (TIS) or 30 days, whichever occurs first after the effective date of this AD, and thereafter at intervals not to exceed six months, inspect the installation of the pull cables on the emergency float kit and readjust the cable rigging if improperly installed, in accordance with the Accomplishment Instructions, sections 1.0 through 1.4, of DART Aerospace Service Bulletin No. SB-2018-07, Revision D, dated November 25, 2019 (“SB-2018-07, Revision D”), except if the pull cable installation does not pass the test in section 1.3 after re-adjusting the cable rigging, you must comply with either paragraph (g)(1) or (2) of this AD before further flight:

(1) Repair the pull cable installation.

(2) Deactivate and placard the emergency float system as inoperative in accordance with the Accomplishment Instructions, section 3.0, of SB-2018-07, Revision D. If the emergency float system has been deactivated and placarded as inoperative, you are not required to repeat the inspection specified in the introductory text of paragraph (g) of this AD.

Note 1 to paragraph (g)(2) of this AD: This AD does not allow operation with an inoperative emergency float system unless the requirements of 14 CFR 91.213 have been met.

(h) Credit for Previous Actions

This paragraph provides credit for the actions specified in introductory text of paragraph (g) and paragraph (g)(2) of this AD, if the actions were done before the effective date of this AD using DART Aerospace Service Bulletin SB-2018-07, Revision B, dated October 8, 2019, or DART Aerospace Service Bulletin SB-2018-07, Revision C, dated November 14, 2019.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-LAACO-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(j) Related Information

For information about AMOCs, contact Johann S. Magana, Aerospace Engineer, Cabin Safety and Environmental Systems Section, FAA, Los Angeles ACO Branch, 3960 Paramount Boulevard, Lakewood, CA 90712-4137; phone: 562-627-5322; fax: 562-627-5210; email: johann.magana@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) DART Aerospace Service Bulletin SB-2018-07, Revision D, dated November 25, 2019.

(ii) [Reserved]

(3) For service information identified in this AD, contact Dart Aerospace LTD., 1270 Aberdeen St., Hawkesbury, ON, K6A 1K7, Canada; telephone: 1-613-632-5200; Fax: 1-613-632-5246; or at www.dartaero.com.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on February 7, 2020.
Lance T. Gant,
Director, Compliance & Airworthiness Division, Aircraft Certification Service.

[FR Doc. 2020-02841 Filed 2-12-20; 8:45 am]

BILLING CODE 4910-13-P